DEPARTMENT OF AGRICULTURE

Animal and Plant Health Inspection Service

[Docket No. APHIS-2023-0013]

General Conference Committee of the National Poultry Improvement Plan

AGENCY: Animal and Plant Health Inspection Service, USDA.

ACTION: Notice of intent to renew charter.

SUMMARY: In accordance with the Federal Advisory Committee Act, United States Department of Agriculture's (USDA) gives notice of the Secretary of Agriculture's intent to renew the charter for the General Conference Committee of the National Poultry Improvement Plan (Committee) for a 2-year period. The Secretary has determined that the Committee is necessary and in the public interest.

FOR FURTHER INFORMATION CONTACT: Dr. Elena Behnke, Senior Coordinator, National Poultry Improvement Plan, VS, APHIS, USDA, 1506 Klondike Road, Suite 101, Conyers, GA 30094; (770) 922-3496; Elena.Behnke@usda.gov.

SUPPLEMENTARY INFORMATION:

Background

The General Conference Committee of the National Poultry Improvement Plan was established in 1971. The committee is governed in accordance with the Federal Advisory Committee Act (FACA) and the regulations of title 9, Code of Federal Regulations (9 CFR), section 147.43. The duties of the committee involve assisting the Department in planning, organizing, and conducting the National Poultry Improvement Plan (NPIP) Biennial Conference. Between Plan Conferences, the committee represents the cooperating States in:

• Advising the Department on administrative procedures and interpretations of the Plan provisions contained in 9 CFR.

• Helping the Department evaluate comments on proposed Plan amendments.

• Recommending to the Secretary any changes in Plan provisions when postponement until the next Plan Conference would seriously impair program operations.

• Serving as a forum for the study of poultry health problems.

The purpose of the General Conference Committee of the National Poultry Improvement Plan (Committee) is to maintain and ensure industry involvement in Federal administration of matters pertaining to poultry health. The committee meets at least annually. In the even years, the committee meets in conjunction with the NPIP Biennial Conference. The NPIP Biennial Conference is the only national meeting where the industry, State and Federal government consider poultry health issues on a routine basis. The committee members are elected at the NPIP Biennial conference by State delegates from their respective regions. There are seven members with a 4-year staggered term. The poultry industry elects the members of the Committee. The members represent six geographic areas with one member-at-large. The Committee Chairperson and the Vice Chairperson shall be elected by the Committee from among its members.

Dated: April 11, 2023.
Cikena Reid,
USDA Committee Management Officer.

[FR Doc. 2023-07954 Filed 4-14-23; 8:45 am]

BILLING CODE 3410-34-P